DEPARTMENT OF THE TREASURY

Agency Information Collection Activities; Submission for OMB Review; Comment Request; Community Development Financial Institutions (CDFI) Fund/Native American CDFI Assistance Program Award Recipient and NMTC Allocatee Annual Report

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before February 26, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Community Development Financial Institutions Fund (CDFI Fund)

Title: CDFI/NACA Program Award Recipient and NMTC Allocatee Annual Report including CDFI ERP.

OMB Control Number: 1559-0027.

Type of Request: Revision of a currently approved collection.

Description: The Community Development Financial Institutions Program (CDFI Program) provides financial and technical assistance to selected organizations certified by the Community Development Financial Institutions Fund (CDFI Fund) as Community Development Financial Institutions (CDFIs), or entities that propose to become CDFIs, in order to enhance their ability to make loans and investments and provide services for the benefit of their designated investment areas and targeted populations. These organizations also include selected Native American organizations certified by the CDFI Fund as CDFIs, or entities that propose to become CDFIs, in order to enhance their ability to make loans and investments and provide services for the benefit of Native American communities and individual Native Americans through the Native American CDFI Assistance Program (NACA Program). Based on an Assistance Agreement between each Financial Award (FA) Recipient and the CDFI Fund, the CDFI/NACA Program Transaction Level Report (TLR) is used to collect information for compliance monitoring and performance reporting. The annual report provides qualitative and quantitative information on the FA Recipient's compliance with its performance goals during the period of performance in which the CDFI Fund's financial assistance was used. The CDFI/NACA TLR is submitted via the CDFI Fund's Awards Management Information System (AMIS) once a year, six (6) months after a Recipient's fiscal year end.

In 2023, the CDFI Fund made awards under the CDFI Equitable Recovery Program (CDFI ERP), which was a new program authorized by Congress under the Consolidated Appropriations Act, 2021 (Act; section 523 of division N; Pub. L. 116-260). The CDFI ERP was designed to award CDFIs grants to respond to the economic impacts of the COVID-19 pandemic. Awards provided to CDFIs were: (1) to expand lending, grant making, and investment activity in low- or moderate-income communities and to borrowers, including minorities, that have significant unmet capital or financial service needs and were disproportionately impacted by the COVID-19 pandemic; and (2) to enable CDFIs to build organizational capacity and acquire technology, staff and other tools necessary to accomplish the activities under a CDFI ERP Award. In April 2023, the CDFI Fund awarded over $1.73 billion in grants to 604 CDFIs.

Based on an Assistance Agreement between each CDFI ERP Recipient and the CDFI Fund, CDFI ERP Recipients will be required to complete the existing CDFI/NACA TLR for the collection of information used for compliance monitoring and performance reporting purposes until the end of the performance period. Because the objectives of the CDFI ERP Program differ from the existing CDFI and NACA Programs, the CDFI Fund needs to add additional data fields to the TLR for CDFI ERP Recipients to complete, as well as create a reporting form to capture CDFI ERP-eligible activities that are not eligible under the CDFI and NACA Programs (i.e., the provision of grants). CDFI ERP Recipients will follow the same annual TLR submission schedule as CDFI/NACA Program Recipients, which is six (6) months after a Recipient's fiscal year end via AMIS. CDFI/NACA Program Recipients who are also CDFI ERP Recipients will only submit one TLR per year.

Forms: Transaction Level Report, Address Records, Loan Purchase Reports, Grant-Level Report, Consumer Loan Report.

Affected Public: CDFIs including businesses or other for-profit institutions, non-profit entities, and State, local and Tribal entities participating in CDFI Fund programs.

Estimated Number of Respondents: 603.

Frequency of Response: Annually.

Estimated Total Number of Annual Responses: 603.

Estimated Time per Response: 20.

Estimated Total Annual Burden Hours: 12,060.

Authority: 44 U.S.C. 3501 et seq.

Spencer W. Clark,
Treasury PRA Clearance Officer.

[FR Doc. 2025-01514 Filed 1-24-25; 8:45 am]

BILLING CODE 4810-70-P